DEPARTMENT OF THE TREASURY

Internal Revenue Service

Open Meeting of the Ad Hoc Committee of the Taxpayer Advocacy Panel.

AGENCY: Internal Revenue Service (IRS), Treasury.

ACTION: Notice.

SUMMARY: An open meeting of the Ad Hoc Committee of the Taxpayer Advocacy Panel will be conducted in Seattle, Washington. The Taxpayer Advocacy Panel (TAP) will be discussing issues on IRS Customer Service.

DATES: The meeting will be held Monday, May 24, and Tuesday, May 25, 2004.

FOR FURTHER INFORMATION CONTACT: Anne Gruber at 1-888-912-1227, or 206-220-6096.

SUPPLEMENTARY INFORMATION: Notice is hereby given pursuant to section 10(a)(2) of the Federal Advisory Committee Act, 5 U.S.C. App. (1988) that an open meeting of the Ad Hoc Committee of the Taxpayer Advocacy Panel will be held Monday, May 24, 2004, from 8:30 am PDT to 4:30 pm PDT and Tuesday, May 25, 2004, from 8:30 am PDT to 12 pm PDT. Both meetings will be held in room 3442 in the Jackson Federal Building in Seattle, Washington. If you would like to have the TAP consider a written statement, please call 1-888-912-1227 or 206-220-6096, or write Anne Gruber, TAP Office, 915 2nd Ave, Seattle, WA 98174. Due to limited time and space, notification of intent to participate in the meeting must be made in advance with Anne Gruber. Ms. Gruber can be reached at 1-888-912-1227 or 206-220-6096.

The agenda will include the following: Various IRS issues.

Dated: May 5, 2004.
Bernard Coston,
Director, Taxpayer Advocacy Panel.

[FR Doc. 04-10701 Filed 5-10-04; 8:45 am]

BILLING CODE 4830-01-P